DEPARTMENT OF THE INTERIOR

Bureau of Land Management

[20X.LLID933000.L14400000.ET0000.241A00]

Notice of Application for Withdrawal Extension and Opportunity for Public Meeting, Lemhi Pass National Historic Landmark, Idaho and Montana [IDI-33690/MTM-90527]

AGENCY: Bureau of Land Management, Interior.

ACTION: Notice.

SUMMARY: The United States Forest Service (USFS) has filed an application with the Bureau of Land Management (BLM) requesting that the Secretary of the Interior extend the duration of Public Land Order (PLO) No. 7549 for an additional 20-year term. PLO No. 7549 withdrew 1,328.84 acres of National Forest System land from location and entry under the United States mining laws to protect the Lemhi Pass National Historic Landmark. The withdrawal created by PLO No. 7549 will expire on December 26, 2022, unless it is extended. The land will remain open to the general land laws and leasing under the mineral leasing laws. This notice also gives an opportunity for the public to comment and to request a public meeting on the withdrawal extension application.

DATES: Comments and public meeting requests must be received by January 20, 2022.

ADDRESSES: Comments and meeting requests should be sent to the Idaho State Director, BLM, 1387 S Vinnell Way, Boise, Idaho 83709.

FOR FURTHER INFORMATION CONTACT: John Sullivan, BLM Idaho State Office, at 208-373-3863 or Hailey Conroy, Lands, USFS Intermountain Regional Office, at 801-625-5802. Persons who use a telecommunications device for the deaf (TDD) may call the Federal Relay Service (FRS) at 1-800-877-8339 to contact either of the above individuals. The FRS is available 24 hours a day, 7 days a week. You will receive a reply during normal business hours.

SUPPLEMENTARY INFORMATION: The USFS has filed an application requesting that the Secretary of the Interior extend the withdrawal created by PLO No. 7549 for an additional 20-year term, subject to valid existing rights. PLO No. 7549 (67 FR 249 (2002)), hereby incorporated by reference, withdrew 1,328.84 acres of National Forest System land in the Salmon-Challis National Forest, Lemhi County, Idaho, and Beaverhead County, Montana, from mining for a period of 20 years to preserve the unique resources of Lemhi Pass National Historic Landmark. The land has been and will remain open to such forms of disposition as may by law be made of National Forest System land and to mineral leasing. An additional 176.45 acres would become subject to the terms and conditions of this withdrawal upon acquisition of the mineral estate by the United States. The purpose of the requested withdrawal extension is to continue to protect the Lemhi Pass National Historic Landmark and to preserve the historic, recreational, and cultural heritage which this site represents.

The use of a right-of-way, interagency agreement, or cooperative agreement would not adequately protect the land from nondiscretionary uses that could result in a permanent loss of significant values and capital investments.

The area proposed for withdrawal extension is a significant national historic area, established as a National Historic Landmark. There are no alternative sites.

The USFS would not need to acquire water rights to fulfill the purpose of the requested withdrawal extension.

For a period until January 20, 2022, all persons who wish to submit comments, suggestions, or objections in connection with the withdrawal extension application may present their views in writing to the BLM State Director at the ADDRESSES section indicated above.

Comments, including names and street addresses of respondents, will be available for public review during regular business hours. Before including your address, phone number, email address, or other personal identifying information in your comment, you should be aware that your entire comment—including your personal identifying information—may be made publicly available at any time. While you may ask us in your comment to withhold your personal identifying information from public review, we cannot guarantee that we will be able to do so.

Notice is hereby given that an opportunity for a public meeting is afforded in connection with the withdrawal extension application. All interested persons who desire a public meeting on the withdrawal extension application must submit a written request to the BLM State Director at the ADDRESSES section indicated above by January 20, 2022. Upon determination by the authorized officer that a public meeting will be held, a notice of the time and place will be published in the Federal Register and a newspaper having a general circulation in the vicinity of the land at least 30 days before the scheduled date of the meeting.

The application will be processed in accordance with the regulations set forth in 43 CFR 2310.4.

Peter J. Ditton,
Acting State Director.

[FR Doc. 2021-23076 Filed 10-21-21; 8:45 am]

BILLING CODE 3411-15-P